DEPARTMENT OF TRANSPORTATION

Federal Aviation Administration

14 CFR Part 1

[Docket No. FAA-2012-1043; Amdt. Nos. 1-1]

Night Definition; Technical Amendment

AGENCY: Federal Aviation Administration, DOT.

ACTION: Technical amendment.

SUMMARY: The FAA is correcting the title of the publication “American Air Almanac” to its current title “Air Almanac”. This document corrects this minor technical error in the codified regulations.

DATES: Effective October 12, 2012.

FOR FURTHER INFORMATION CONTACT: For technical questions concerning this action, contact Ida M. Klepper, Airmen and Airspace Rules Division, Office of Rulemaking, ARM-100, Federal Aviation Administration, 800 Independence Avenue SW., Washington, DC 20591; telephone: 202-267-9677; email: Ida.Klepper@faa.gov.

Background

The former “American Air Almanac” was created to meet the general requirements for air navigation in the United Kingdom, the United States, and Canada. In 14 CFR 1.1 the definition of night refers to twilight times as published in the “American Air Almanac”. The “American Air Almanac” publication ceased in 1953 and is currently called the “Air Almanac”. This technical amendment corrects the title of the publication.

Technical Amendment

This technical amendment makes one revision to the codified text § 1.1. The language in § 1.1incorrectly uses the title “American Air Almanac” when it should read “Air Almanac”.

Because the change in this technical amendment results in no substantive change, we find good cause exists under 5 U.S.C. 553(d)(3) to make the amendment effective in less than 30 days.

List of Subjects in 14 CFR Part 1

Air transportation.

The Amendment

In consideration of the foregoing, the Federal Aviation Administration amends chapter I of title 14, Code of Federal Regulations as follows:

PART 1—DEFINITIONS AND ABBREVIATIONS

1. The authority citation for part 1 continues to read as follows:

Authority: 49 U.S.C. 106(g), 40113, 44701.

2. In § 1.1, revise the definition of “Night” to read as follows:

§ 1.1 General definitions.

* * * * *

Night means the time between the end of evening civil twilight and the beginning of morning civil twilight, as published in the Air Almanac, converted to local time.

* * * * *

Issued in Washington, DC, on September 20, 2012.
Lirio Liu,
Acting Director, Office of Rulemaking.

[FR Doc. 2012-25032 Filed 10-11-12; 8:45 am]

BILLING CODE 4910-13-P